DEPARTMENT OF TRANSPORTATION

Federal Highway Administration

Environmental Impact Statement: City and County of San Francisco, CA

AGENCY: Federal Highway Administration (FHWA), DOT.

ACTION: Notice of intent.

SUMMARY: The FHWA is issuing this notice to advise the public that an Environmental Impact Statement (EIS) and Environmental Impact Report (EIR) will be prepared for a project in San Francisco, California, known as the Bayview Transportation Improvements Project.

FOR FURTHER INFORMATION CONTACT: Leland Dong, North Region Team Leader, Federal Highway Administration, 650 Capitol Mall Suite 4-100, Sacramento, California 95814, Telephone: (916) 498-5860 or Bill Wycko, San Francisco Planning Department, 1660 Mission Street, San Francisco, California 94103, Telephone (415) 558-5972.

SUPPLEMENTARY INFORMATION: The FHWA, in cooperation with the California Department of Transportation (Caltrans), will prepare an EIS for proposed improvements to the roadway system in the southeast sector of San Francisco, California. The project is needed to provide an alternate designated route for future truck traffic from US Highway 101 to the planned industrial portion of the redeveloped Hunters Point Shipyard and minimize travel time to the planned industrial portion of the Shipyard, as well as the existing industrial areas of the Bayview.

The study area is approximately bounded by Caesar Chavez Street to the north, the City and County of San Francisco border to the south, US Highway 101 to the west and San Francisco Bay to the east.

Seven build-alternatives have been identified. While these alternative routes attempt to avoid residential streets, a few residences can be found on some of the alternative alignments. Three of the alternatives involve constructing a new bridge over the Yosemite Slough or South Basin. Two alternatives use overland roadway routes only. Two alternatives involve construction of significant roadway structures. The roadway improvements required for each alignment vary. The build-alternatives, length, and highway connections are:

1. Long Bridge, 2.27 miles: Exits Northbound US 101 at Harney Way.

2. Medium Bridge, 3.12 miles: Exits Northbound US 101 at Harney Way.

3. Griffith Bridge, 3.34 miles: Exits Northbound US 101 at Harney Way.

4. Griffith Armstrong, 3.84 miles: Exits Northbound US 101 at Harney Way.

5. Carroll Avenue Overpass, 3.74 miles: Exits Northbound US 101 at Third Street/Bayshore Boulevard.

6. 3rd Street/Egbert/Ingalls, 3.45 miles: Exits USA 101 at Third Street/Bayshore Boulevard.

7. I-280 Islais Creek interchange, 6.28 miles: Exits I-280 at Evans Avenue.

Other alternatives to be considered include no-build, Transportation Systems Management (TSM) and mass transit. Although seven build-alternatives have been identified for study, combinations of the alignments may be considered. Modified versions of these alternatives which address technical considerations, respond to concerns from the public or reduce community impacts may be considered.

The project area is an economically and socially diverse neighborhood. The predominant land use within the project area is residential with a mix of heavy commercial, industrial and warehousing activities. The project area is adjacent to San Francisco Bay, an Essential Fish Habitat Area as designated by the National Oceanic and Atmospheric Administration—Fisheries.

Key environmental issues to be studied include, but are not limited to, air quality, noise, traffic, socioeconomic impacts, business relocations, hazardous materials, biological, water quality, coastal zone, flood plain, wetlands, visual impacts, impacts to open space and cultural resources and construction/encroachment on State and/or Federal lands. Other key issues may arise at the scoping meeting or during the environmental review process. Resources subject to section 106 of the National Historic Preservation Act may be affected. Section 4(f) resources may also be affected.

Letters describing the proposed action and soliciting comments will be sent to appropriate Federal, State and local agencies, and to private organizations and citizens who have previously expressed, or are known to have an interest in, this proposal.

Two scoping meetings will be held on July 8, 2004 at 1 p.m. and 7 p.m. at the Bayview Opera House, 4705 Third Street between Oakdale Avenue and Newcomb Avenue in San Francisco. The purpose of the scoping meetings is to seek input and to collect ideas and concerns regarding (1) the individual project concepts and (2) the environmental studies to be done.

Public meetings and a public hearing will also be held. The draft EIS will be available for public and agency review prior to the public hearing. Public notice will be given as to the exact time and location of the meetings and hearing.

To ensure that the full range of issues related to this proposed action are addressed and all significant issues identified, comments and suggestions are invited from all interested parties. Comments or questions concerning this proposed action and the EIS should be directed to the FHWA at the address provided above.

(Catalogue of Federal Domestic Assistance Program Number 20.205, Highway Planning and Construction. The regulations implementing Executive Order 12372 regarding intergovernmental consultation on Federal programs and activities apply to this program.)

Issued on: May 18, 2004.
Leland W. Dong,
Team Leader—North Region, Federal Highway Administration, Sacramento, California.

[FR Doc. 04-11706 Filed 6-1-04; 8:45 am]

BILLING CODE 4910-22-M